DEPARTMENT OF THE INTERIOR

Fish and Wildlife Service

[FWS-R2-ES-2022-N001; FXES11130200000-223-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please submit your written comments by March 16, 2022.

ADDRESSES:

Document availability: Request documents by phone or email: Marty Tuegel 505-248-6651, marty_tuegel@fws.gov.

Comment submission: Submit comments by email to fw2_te_permits@fws.gov. Please specify the permit you are interested in by number (e.g., Application No. ESPER1234567).

FOR FURTHER INFORMATION CONTACT: Marty Tuegel, Supervisor, Environmental Review Division, 505-248-6651. Individuals who are hearing or speech impaired may call the Federal Relay Service at 1-800-877-8339 for TTY assistance.

SUPPLEMENTARY INFORMATION:

Background

With some exceptions, the Endangered Species Act (ESA; 16 U.S.C. 1531 et seq.) prohibits activities that constitute take of listed species unless a Federal permit is issued that allows such activity. The ESA's definition of “take” includes hunting, shooting, harming, wounding, or killing but also such activities as pursuing, harassing, trapping, capturing, or collecting.

The ESA and our implementing regulations in the Code of Federal Regulations (CFR) at title 50, part 17, provide for issuing such permits and require that we invite public comment before issuing permits for activities involving listed species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the application number when submitting comments.

Application No. | Applicant | Species | Location | Activity | Type of take | Permit action
PER0030652 | Miller, Marvin; Spring Branch, Texas | Beetle [no common name] (Rhadine exilis), beetle [no common name] (Rhadine infernalis), Helotes mold beetle (Batrisodes venyivi), Cokendolpher Cave harvestman (Texella cokendolpheri), Robber Baron Cave meshweaver (Cicurina baronia), Madla Cave meshweaver (Cicurina madla), Government Canyon Bat Cave meshweaver (Cicurina vespera), Government Canyon Bat Cave spider (Neoleptoneta microps) | Texas | Presence/absence surveys, capture | Harm, harass | New.
PER0029468 | Jenkerson, Jeffrey; San Marcos, Texas | Houston toad (Bufo houstonensis) | Texas | Presence/absence surveys, capture, handling, biosampling, translocation, release | Harass, harm | New.
PER0029467 | Gladstone, Nicholas S.; Austin, Texas | Austin blind salamander (Eurycea waterlooensis), Barton Springs salamander (Eurycea sosorum), beetle [no common name] (Rhadine exilis), beetle [no common name] (Rhadine infernalis), Coffin Cave mold beetle (Batrisodes texanus), Comal Springs dryopid beetle (Stygoparnus comalensis), Comal Springs riffle beetle (Heterelmis comalensis), Helotes mold beetle (Batrisodes venyivi), Kretschmarr Cave mold beetle (Texamaurops reddelli), Tooth Cave ground beetle (Rhadine persephone), Bee Creek Cave harvestman (Texella reddelli), Bone Cave harvestman (Texella reyesi), Cokendolpher Cave harvestman (Texella cokendolpheri), Government Canyon Bat Cave meshweaver (Cicurina vespera), Government Canyon Bat Cave spider (Neoleptoneta microps), Madla Cave meshweaver (Cicurina madla), Robber Baron Cave meshweaver (Cicurina baronia), Tooth Cave pseudoscorpion (Tartarocreagris texana), Tooth Cave spider (Neoleptoneta myopica), Peck's Cave amphipod (Stygobromus pecki) | Texas | Presence/absence surveys, habitat assessment | Harass, harm | New.
PER0030653 | Grouse Mountain Environmental Consultants, LLC.; Buffalo, Wyoming | Rio Grande silvery minnow (Hybognathus amarus), spikedace (Meda fulgida), southwestern willow flycatcher (Empidonax traillii extimus) | Arizona, Colorado, New Mexico, Texas, Utah, Wyoming | Presence/absence surveys, monitoring | Harass, harm | Renew/amend.
ES068189 | Archaeological Consulting Services—A Commonwealth Heritage Group, Inc. Company; Tempe, Arizona | Southwestern willow flycatcher (Empidonax traillii extimus) | Arizona, New Mexico | Presence/absence surveys | Harass, harm | Amend.
PER0018550 | Mowad, Gary; Scottsdale, Arizona | Black-lace cactus (Echinocereus reichenbachii var. albertii), Tobusch fishhook cactus (Sclerocactus brevihamatus ssp. tobuschii) | Texas | Presence/absence surveys, collection, transplantation | Collect | New.
PER0005103 | Proppe, Darren; Dripping Springs, Texas | Golden-cheeked warbler (Dendroica chrysoparia) | Texas | Presence/absence surveys, habitat assessment | Harass, harm | New.
PER0012186 | San Antonio Aquarium; San Antonio, Texas | Green sea turtle (Chelonia mydas) | Texas | Rehabilitation, display for educational purposes, release into the wild | Harass, harm | New.
PER0030654 | U.S. Forest Service, Tonto National Forest; Mesa, Arizona | Southwestern willow flycatcher (Empidonax traillii extimus), Yuma Ridgway's rail (Rallus obsoletus yumanensis), Colorado pikeminnow (Ptychocheilus lucius), desert pupfish (Cyprinodon macularius), Gila chub (Gila intermedia), Gila topminnow (Poeciliopsis occidentalis), razorback sucker (Xyrauchen texanus) | Arizona | Survey/monitoring | Harass, harm | Renew/amend.
PER0002439 | U.S. Army; Fort Hood, Texas | Golden-cheeked warbler (Dendroica chrysoparia) | Texas | Survey/monitoring, capture, handling, banding, tracking, release | Harass, harm | Renew/amend.
PER0030655 | Wallgren, Jenny; Johnson City, Texas | Golden-cheeked warbler (Dendroica chrysoparia) | Texas | Presence/absence surveys | Harass, harm | New.
PER0029730 | Prescott, Jacqueline; Spring, Texas | Houston toad (Bufo houstonensis) | Texas | Presence/absence surveys | Harass, harm | New.
PER0029738 | Pebworth, Michael: Houston, Texas | Golden-cheeked warbler (Dendroica chrysoparia) | Texas | Presence/absence surveys | Harass, harm | New.
PER0030658 | USGS, Southwest Biological Science Center; Flagstaff, Arizona | Arizona eryngo (Eryngium sparganophyllum), Huachuca water umbel (Lilaeopsis schaffneriana var. recurva), Arizona cliffrose (Purshia subintegra) | Arizona | Collection | Collect | New.
PER0030603 | Sphere 3 Environmental; Longview, Texas | Red-cockaded woodpecker (Picoides borealis) | Texas | Presence/absence surveys | Harass, harm | Renew.
PER0030542 | Long, Ashley; Baton Rouge, Louisiana | Golden-cheeked warbler (Dendroica chrysoparia) | Texas | Survey/monitoring, capture, handling, banding, tracking, release | Harass, harm | Renew and Amend.
PER0030546 | Griffin, David; Green Valley, Arizona | Northern aplomado falcon (Falco femoralis septentrionalis), southwestern willow flycatcher (Empidonax traillii extimus) | Arizona, New Mexico, Texas | Presence/absence surveys, nest monitoring | Harass, harm | Renew.
PER0030551 | Terry, William; San Marcos, Texas | Golden-cheeked warbler (Dendroica chrysoparia) | Texas | Presence/absence surveys | Harass, harm | New
PER0004032 | Horizon Environmental Services, Inc.; Austin, Texas | Golden-cheeked warbler (Dendroica chrysoparia), Houston toad (Bufo houstonensis), beetle [no common came] (Rhadine exilis), beetle [no common name] (Rhadine infernalis), Bracken Bat Cave meshweaver (Cicurina venii), Coffin Cave mold beetle (Batrisodes texanus), Helotes mold beetle (Batrisodes venyivi), Kretschmarr Cave mold beetle (Texamaurops reddelli), Tooth Cave ground beetle (Rhadine persephone), Bee Creek Cave harvestman (Texella reddelli), Bone Cave harvestman (Texella reyesi), Cokendolpher Cave harvestman (Texella cokendolpheri), Government Canyon Bat Cave meshweaver (Cicurina vespera), Government Canyon Bat Cave spider (Neoleptoneta microps), Madla Cave meshweaver (Cicurina madla), Robber Baron Cave meshweaver (Cicurina baronia), Tooth Cave pseudoscorpion (Tartarocreagris texana), Tooth Cave spider (Neoleptoneta myopica) | Texas, Oklahoma | Presence/absence surveys | Harass, harm | Renew/amend

Public Availability of Comments

All comments we receive become part of the public record associated with this action. Requests for copies of comments will be handled in accordance with the Freedom of Information Act, NEPA, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under section 10 of the ESA (16 U.S.C. 1531 et seq.).

Amy L. Lueders,
Regional Director, Southwest Region, U.S. Fish and Wildlife Service.

[FR Doc. 2022-03056 Filed 2-11-22; 8:45 am]

BILLING CODE 4333-15-P